DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security (BIS).

Title: Special Comprehensive License.

OMB Control Number: 0694-0089.

Form Number(s): BIS-748P and BIS-752.

Type of Request: Regular submission (extension of a currently approved information collection).

Burden Hours: 542.

Number of Respondents: 64.

Average Hours per Response: 30 minutes to 40 hours.

Needs and Uses: The Special Comprehensive License procedure authorizes multiple shipments of items from the U.S. or from approved consignees abroad, who are approved in advance by BIS, to conduct the following activities: Servicing, support services, stocking spare parts, maintenance, capital expansion, manufacturing, support scientific data acquisition, reselling and reexporting in the form received, and other activities as approved on a case-by-case basis.

Affected Public: Business or other for-profit organizations; not-for-profit institutions.

Frequency: On occasion.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Jasmeet Seehra, OMB Desk Officer, via e-mail to Jasmeet_K._Seehra@omb.eop.gov, or fax to (202) 395-5167.

Dated: November 9, 2010.
Gwellnar Banks,
Management Analyst, Office of the Chief Information Officer.

[FR Doc. 2010-28616 Filed 11-12-10; 8:45 am]

BILLING CODE 3510-33-P